ENVIRONMENTAL PROTECTION AGENCY

[FRL-10019-67-OAR]

Proposed Information Collection Request; Comment Request; 43 Source Categories

AGENCY: Environmental Protection Agency (EPA).

ACTION: Notice.

SUMMARY: The U.S. Environmental Protection Agency (EPA) is planning to submit the below listed Information Collection Requests (ICR) to the Office of Management and Budget (OMB) for review and approval in accordance with the Paperwork Reduction Act (PRA). Before doing so, the EPA is soliciting public comments on specific aspects of the proposed information collection as described below. These are proposed extensions of the currently approved ICRs. An agency may not conduct or sponsor and a person is not required to respond to a collection of information unless it displays a currently valid OMB control number.

DATES: Comments must be submitted on or before April 9, 2021.

ADDRESSES: Submit your comments, referencing the Docket ID numbers provided for each item in the text, online using https://www.regulations.gov/ (our preferred method), by email to a-and-r-docket@epa.gov, or by mail to: EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI) or other information whose disclosure is restricted by statute. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on the EPA Docket Center services and the current status, please visit us online at https://www.epa.gov/dockets.

FOR FURTHER INFORMATION CONTACT: Mr. Muntasir Ali, Sector Policies and Programs Division (D243-05), Office of Air Quality Planning and Standards, U.S. Environmental Protection Agency, Research Triangle Park, North Carolina 27711; telephone number: (919) 541-0833; email address: ali.muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the EPA Docket Center is (202) 566-1744. For additional information about the EPA's public docket, visit http://www.epa.gov/dockets.

Pursuant to section 3506(c)(2)(A) of the PRA, the EPA is soliciting comments and information to enable it to: (1) Evaluate whether the proposed collection of information is necessary for the proper performance of the functions of the Agency, including whether the information will have practical utility; (2) evaluate the accuracy of the Agency's estimate of the burden of the proposed collection of information, including the validity of the methodology and assumptions used; (3) enhance the quality, utility, and clarity of the information to be collected; and (4) minimize the burden of the collection of information on those who are to respond, including through the use of appropriate automated electronic, mechanical, or other technological collection techniques or other forms of information technology, e.g., permitting electronic submission of responses. Burden is defined at 5 CFR 1320.03(b). The EPA will consider the comments received and amend the ICR as appropriate. The final ICR package will then be submitted to OMB for review and approval. At that time, the EPA will issue another Federal Register document to announce the submission of the ICR to OMB and the opportunity to submit additional comments to OMB.

General Abstract: For all the listed ICRs in this document, owners and operators of affected facilities are required to comply with reporting and recordkeeping requirements for the General Provisions of 40 CFR part 60, subpart A or 40 CFR part 63, subpart A, as well as the applicable specific standards. This includes submitting initial notifications, performance tests, and periodic reports and results, and maintaining records of the occurrence and duration of any startup, shutdown, or malfunction in the operation of an affected facility, or any period during which the monitoring system is inoperative. These reports are used by the EPA to determine compliance with the standards.

(1) Docket ID Number: EPA-HQ-OAR-2020-0628; Standards of Performance for Sulfuric Acid Plants (40 CFR part 60, subpart H) (Renewal); EPA ICR Number 1057.15; OMB Control Number 2060-0041; Expiration date October 31, 2021.

Respondents: Sulfuric acid manufacturing facilities.

Respondent's obligation to respond: Mandatory (40 CFR part 60, subpart H).

Estimated number of respondents: 53.

Frequency of response: Semiannually.

Estimated annual burden: 13,500 hours.

Estimated annual cost: $1,660,000, includes $239,000 annualized capital or operations and maintenance (O&M) costs.

Changes in estimates: There is no change in burden from the previous ICR.

(2) Docket ID Number: EPA-HQ-OAR-2020-0633; Standards of Performance for Polymeric Coating of Supporting Substrates Facilities (40 CFR part 60, subpart VVV) (Renewal); EPA ICR Number 1284.12; OMB Control Number 2060-0181; Expiration date October 31, 2021.

Respondents: Facilities performing polymeric coating of supporting substrates.

Respondent's obligation to respond: Mandatory (40 CFR part 60, subpart VVV).

Estimated number of respondents: 61.

Frequency of response: Initially, quarterly, and semiannually.

Estimated annual burden: 14,200 hours.

Estimated annual cost: $2,190,000, includes $700,000 annualized capital or O&M costs.

Changes in estimates: There is a projected increase in burden due to an increase in the number of sources subject to the regulation.

(3) Docket ID Number: EPA-HQ-OAR-2020-0623; National Emission Standards for Hazardous Air Pollutants from Natural Gas Transmission and Storage Facilities (40 CFR part 63, HHH) (Renewal); EPA ICR Number 1789.11; OMB Control Number 2060-0418; Expiration date October 31, 2021.

Respondents: Natural gas transmission and storage facilities.

Respondent's obligation to respond: Mandatory (40 CFR part 63, HHH).

Estimated number of respondents: 55.

Frequency of response: Initially and semiannually.

Estimated annual burden: 2,910 hours.

Estimated annual cost: $306,000, includes no annualized capital or O&M costs.

Changes in estimates: There is a projected increase in burden due to an increase in the number of sources subject to the regulation.

(4) Docket ID Number: EPA-HQ-OAR-2020-0637; National Emission Standards for Hazardous Air Pollutants for Source Categories: Carbon Black, Ethylene, Cyanide, and Spandex (40 CFR part 63, subpart YY) (Renewal); EPA ICR Number 1983.11; OMB Control Number 2060-0489; Expiration date November 30, 2021.

Respondents: Carbon black, ethylene, cyanide, and spandex manufacturing facilities.

Respondent's obligation to respond: Mandatory (40 CFR part 63, subpart YY).

Estimated number of respondents: 61.

Frequency of response: Semiannually and annually.

Estimated annual burden: 41,800 hours.

Estimated annual cost: $4,930,000, includes $351,000 annualized capital or O&M costs.

Changes in estimates: There is a projected increase in burden due to an increase in the number of sources subject to the regulation.

(5) Docket ID Number: EPA-HQ-OAR-2020-0635; National Emission Standards for Hazardous Air Pollutants for Primary Copper Smelting (40 CFR part 63, subpart QQQ) (Renewal); EPA ICR Number 1850.09; OMB Control Number 2060-0476; Expiration date November 30, 2021.

Respondents: Primary copper smelting facilities.

Respondent's obligation to respond: Mandatory (40 CFR part 63, subpart QQQ).

Estimated number of respondents: 3.

Frequency of response: Semiannually and annually.

Estimated annual burden: 9,440 hours.

Estimated annual cost: $999,000, includes $8,220 annualized capital or O&M costs.

Changes in estimates: There is no change in burden from the previous ICR.

(6) Docket ID Number: EPA-HQ-OAR-2020-0631; Standards of Performance for Hot Mix Asphalt Facilities (40 CFR part 60, subpart I) (Renewal); EPA ICR Number 1127.13; OMB Control Number 2060-0083; Expiration date December 31, 2021.

Respondents: Hot mix asphalt facilities.

Respondent's obligation to respond: Mandatory (40 CFR part 60, subpart I).

Estimated number of respondents: 4,955.

Frequency of response: Initially.

Estimated annual burden: 8,547 hours.

Estimated annual cost: $2,620,000, includes no annualized capital or O&M costs.

Changes in estimates: There is a projected increase in burden due to an increase in the number of sources subject to the regulation.

(7) Docket ID Number: EPA-HQ-OAR-2020-0627; Standards of Performance for Petroleum Refineries (40 CFR part 60, subpart J) (Renewal); EPA ICR Number 1054.14; OMB Control Number 2060-0022; Expiration date December 31, 2021.

Respondents: Petroleum refineries.

Respondent's obligation to respond: Mandatory (40 CFR part 60, subpart J).

Estimated number of respondents: 149.

Frequency of response: Semiannually.

Estimated annual burden: 15,800 hours.

Estimated annual cost: $2,500,000, includes $826,000 annualized capital or O&M costs.

Changes in estimates: There is no change in burden from the previous ICR.

(8) Docket ID Number: EPA-HQ-OAR-2020-0629; Standards of Performance for Primary Emissions from Basic Oxygen Process Furnaces for Which Construction is Commenced After June 11, 1973; and Standards of Performance for Secondary Emissions from Basic Oxygen Process Steelmaking Facilities for Which Construction is Commenced After January 20, 1983 (40 CFR part 60, subparts N and Na) (Renewal); EPA ICR Number 1069.13; OMB Control Number 2060-0029; Expiration date December 31, 2021.

Respondents: Basic oxygen process steelmaking facilities.

Respondent's obligation to respond: Mandatory (40 CFR part 60, subparts N and Na).

Estimated number of respondents: 18.

Frequency of response: Semiannually.

Estimated annual burden: 6,280 hours.

Estimated annual cost: $690,000, includes $29,700 annualized capital or O&M costs.

Changes in estimates: There is no change in burden from the previous ICR.

(9) Docket ID Number: EPA-HQ-OAR-2020-0632; Standards of Performance for Lime Manufacturing Plants (40 CFR part 60, subpart HH) (Renewal); EPA ICR Number 1167.13; OMB Control Number 2060-0063; Expiration date December 31, 2021.

Respondents: Lime manufacturing facilities.

Respondent's obligation to respond: Mandatory (40 CFR part 60, subpart HH).

Estimated number of respondents: 41.

Frequency of response: Semiannually.

Estimated annual burden: 3,820 hours.

Estimated annual cost: $463,000, includes $61,500 annualized capital or O&M costs.

Changes in estimates: There is no change in burden from the previous ICR.

(10) Docket ID Number: EPA-HQ-OAR-2020-0710; Emission Guidelines and Compliance Times for Other Solid Waste Incineration Units That Commenced Construction On or Before December 9, 2004 (40 CFR part 60, subpart FFFF) (Renewal); EPA ICR Number 2164.07; OMB Control Number 2060-0562; Expiration date December 31, 2021.

Respondents: Very small municipal waste combustion and institutional waste incineration facilities.

Respondent's obligation to respond: Mandatory (40 CFR part 60, subpart FFFF).

Estimated number of respondents: 99.

Frequency of response: Initially, semiannually, and annually.

Estimated annual burden: 70,200 hours.

Estimated annual cost: $8,190,000, includes $495,000 annualized capital or O&M costs.

Changes in estimates: There is a projected increase in burden due to an increase in the number of sources subject to the regulation.

(11) Docket ID Number: EPA-HQ-OAR-2020-0625; National Emission Standard for Vinyl Chloride (40 CFR part 61, subpart F) (Renewal); EPA ICR Number 0186.15; OMB Control Number 2060-0071; Expiration date December 31, 2021.

Respondents: Facilities that produce ethylene dichloride, vinyl chloride (VC), and one or more polymers containing any fraction of polymerized VC.

Respondent's obligation to respond: Mandatory (40 CFR part 61, subpart F).

Estimated number of respondents: 16.

Frequency of response: Quarterly and annually.

Estimated annual burden: 6,540 hours.

Estimated annual cost: $1,410,000, includes $720,000 annualized capital or O&M costs.

Changes in estimates: There is no change in burden from the previous ICR.

(12) Docket ID Number: EPA-HQ-OAR-2020-0630; National Emission Standards for Inorganic Arsenic Emissions from Glass Manufacturing Plants (40 CFR part 61, subpart N) (Renewal); EPA ICR Number 1081.13; OMB Control Number 2060-0043; Expiration date December 31, 2021.

Respondents: Glass manufacturing facilities.

Respondent's obligation to respond: Mandatory (40 CFR part 61, subpart N).

Estimated number of respondents: 16.

Frequency of response: Semiannually.

Estimated annual burden: 3,100 hours.

Estimated annual cost: $382,000, includes $56,000 annualized capital or O&M costs.

Changes in estimates: There is no change in burden from the previous ICR.

(13) Docket ID Number: EPA-HQ-OAR-2020-0634; National Emission Standards for Hazardous Air Pollutants From Secondary Lead Smelting (40 CFR part 63, subpart X) (Renewal); EPA ICR Number 1686.12; OMB Control Number 2060-0296; Expiration date December 31, 2021.

Respondents: Secondary lead smelting facilities.

Respondent's obligation to respond: Mandatory (40 CFR part 63, subpart X).

Estimated number of respondents: 12.

Frequency of response: Semiannually and annually.

Estimated annual burden: 21,700 hours.

Estimated annual cost: $2,630,000, includes $251,000 annualized capital or O&M costs.

Changes in estimates: There is no change in burden from the previous ICR.

(14) Docket ID Number: EPA-HQ-OAR-2020-0622; National Emission Standards for Wood Furniture Manufacturing Operations (40 CFR part 63, subpart JJ) (Renewal); EPA ICR Number 1716.11; OMB Control Number 2060-0324; Expiration date December 31, 2021.

Respondents: Wood furniture manufacturing facilities.

Respondent's obligation to respond: Mandatory (40 CFR part 63, subpart JJ)

Estimated number of respondents: 856.

Frequency of response: Initially, quarterly, and semiannually.

Estimated annual burden: 70,800 hours.

Estimated annual cost: $7,780,000, includes $24,600 annualized capital or O&M costs.

Changes in estimates: There is no change in burden from the previous ICR.

(15) Docket ID Number: EPA-HQ-OAR-2020-0624; National Emission Standards for Hazardous Air Pollutants for Chemical Recovery Combustion Sources at Kraft, Soda, Sulfite, and Stand-Alone Semichemical Pulp Mills (40 CFR part 63, subpart MM) (Renewal); EPA ICR Number 1805.11; OMB Control Number 2060-0377; Expiration date December 31, 2021.

Respondents: Kraft, soda, sulfite, and stand-alone semichemical pulp mill facilities.

Respondent's obligation to respond: Mandatory (40 CFR part 63, subpart MM).

Estimated number of respondents: 107.

Frequency of response: Initially and semiannually.

Estimated annual burden: 122,000 hours.

Estimated annual cost: $14,700,000, includes $831,000 annualized capital or O&M costs.

Changes in estimates: There is a projected increase in burden due to an increase in the number of sources subject to the regulation.

(16) Docket ID Number: EPA-HQ-OAR-2020-0636; National Emission Standards for Hazardous Air Pollutants for Primary Lead Smelting (40 CFR part 63, subpart TTT) (Renewal); EPA ICR Number 1856.12; OMB Control Number 2060-0414; Expiration date December 31, 2021.

Respondents: Primary lead smelting facilities.

Respondent's obligation to respond: Mandatory (40 CFR part 63, subpart TTT).

Estimated number of respondents: 1.

Frequency of response: Quarterly and semiannually.

Estimated annual burden: 6,270 hours.

Estimated annual cost: $855,000, includes $169,000 annualized capital or O&M costs.

Changes in estimates: There is no change in burden from the previous ICR.

(17) Docket ID Number: EPA-HQ-OAR-2020-0640; National Emission Standards for Hazardous Air Pollutants for Engine Test Cells/Stands (40 CFR part 63, subpart PPPPP) (Renewal); EPA ICR Number 2066.10; OMB Control Number 2060-0483; Expiration date December 31, 2021.

Respondents: Engine test cells/stand facilities.

Respondent's obligation to respond: Mandatory (40 CFR part 63, subpart PPPPP).

Estimated number of respondents: 19.

Frequency of response: Initially and semiannually.

Estimated annual burden: 2,150 hours.

Estimated annual cost: $216,000, includes $6,200 annualized capital or O&M costs.

Changes in estimates: There is a projected decrease in burden due to anticipated shutdown of existing sources.

(18) Docket ID Number: EPA-HQ-OAR-2020-0639; National Emission Standards for Hazardous Air Pollutants for Friction Materials Manufacturing Facilities (40 CFR part 63, subpart QQQQQ) (Renewal); EPA ICR Number 2025.09; OMB Control Number 2060-0481; Expiration date December 31, 2021.

Respondents: Friction materials manufacturing facilities.

Respondent's obligation to respond: Mandatory (40 CFR part 63, subpart QQQQQ).

Estimated number of respondents: 2.

Frequency of response: Semiannually.

Estimated annual burden: 659 hours.

Estimated annual cost: $69,700, includes $544 annualized capital or O&M costs.

Changes in estimates: There is no change in burden from the previous ICR.

(19) Docket ID Number: EPA-HQ-OAR-2020-0641; National Emission Standards for Hazardous Air Pollutants for Iron and Steel Foundries Area Sources (40 CFR part 63, subpart ZZZZZ) (Renewal); EPA ICR Number 2267.08; OMB Control Number 2060-0605; Expiration date December 31, 2021.

Respondents: Iron and steel foundry area source facilities.

Respondent's obligation to respond: Mandatory (40 CFR part 63, subpart ZZZZZ).

Estimated number of respondents: 392.

Frequency of response: Semiannually and annually.

Estimated annual burden: 9,140 hours.

Estimated annual cost: $1,000,000, includes no annualized capital or O&M costs.

Changes in estimates: There is no change in burden from the previous ICR.

(20) Docket ID Number: EPA-HQ-OAR-2020-0638; National Emission Standards for Hazardous Air Pollutants for Leather Finishing Operations (40 CFR part 63, subpart TTTT) (Renewal); EPA ICR Number 1985.10; OMB Control Number 2060-0478; Expiration date February 28, 2022.

Respondents: Leather finishing facilities.

Respondent's obligation to respond: Mandatory (40 CFR part 63, subpart TTTT).

Estimated number of respondents: 4.

Frequency of response: Annually.

Estimated annual burden: 138 hours.

Estimated annual cost: $12,500, includes no annualized capital or O&M costs.

Changes in estimates: There is no change in burden from the previous ICR.

(21) Docket ID Number: EPA-HQ-OAR-2020-0643; Standards of Performance for Municipal Waste Combustors for Which Construction is Commenced After December 20, 1989 and On or Before September 20, 1994, and Standards of Performance for Large Municipal Waste Combustors for Which Construction is Commenced After September 20, 1994 or for Which Modification or Reconstruction is Commenced After June 19, 1996 (40 CFR part 60, subparts Ea and Eb) (Renewal); EPA ICR Number 1506.14; OMB Control Number 2060-0210; Expiration date March 31, 2022.

Respondents: Municipal waste combustor facilities.

Respondent's obligation to respond: Mandatory (40 CFR part 60, subparts Ea and Eb).

Estimated number of respondents: 23.

Frequency of response: Initially, quarterly, semiannually, and annually.

Estimated annual burden: 34,900 hours.

Estimated annual cost: $3,440,000, includes $226,000 annualized capital or O&M costs.

Changes in estimates: There is a projected increase in burden due to an increase in the number of sources subject to the regulation.

(22) Docket ID Number: EPA-HQ-OAR-2020-0657; Standards of Performance for Kraft Pulp Mills (40 CFR part 60, subpart BB) (Renewal); EPA ICR Number 1055.13; OMB Control Number 2060-0021; Expiration date March 31, 2022.

Respondents: Kraft pulp mill facilities.

Respondent's obligation to respond: Mandatory (40 CFR part 60, subpart BB).

Estimated number of respondents: 97.

Frequency of response: Semiannually.

Estimated annual burden: 13,900 hours.

Estimated annual cost: $5,020,000, includes $3,510,000 annualized capital or O&M costs.

Changes in estimates: There is no change in burden from the previous ICR.

(23) Docket ID Number: EPA-HQ-OAR-2020-0626; Standards of Performance for Surface Coating of Metal Furniture (40 CFR part 60, subpart EE) (Renewal); EPA ICR Number 0649.14; OMB Control Number 2060-0106; Expiration date March 31, 2022.

Respondents: Metal furniture surface coating facilities.

Respondent's obligation to respond: Mandatory (40 CFR part 60, subpart EE).

Estimated number of respondents: 400.

Frequency of response: Quarterly and semiannually.

Estimated annual burden: 56,500 hours.

Estimated annual cost: $7,280,000, includes $840,000 annualized capital or O&M costs.

Changes in estimates: There is no change in burden from the previous ICR.

(24) Docket ID Number: EPA-HQ-OAR-2020-0655; Standards of Performance for Metallic Mineral Processing Plants (40 CFR part 60, subpart LL) (Renewal); EPA ICR Number 0982.13; OMB Control Number 2060-0016; Expiration date March 31, 2022.

Respondents: Metallic mineral processing facilities.

Respondent's obligation to respond: Mandatory (40 CFR part 60, subpart LL).

Estimated number of respondents: 20.

Frequency of response: Initially and semiannually.

Estimated annual burden: 2,330 hours.

Estimated annual cost: $268,000, includes $13,000 annualized capital or O&M costs.

Changes in estimates: There is no change in burden from the previous ICR.

(25) Docket ID Number: EPA-HQ-OAR-2020-0654; Standards of Performance for the Beverage Can Surface Coating Industry (40 CFR part 60, subpart WW) (Renewal); EPA ICR Number 0663.14; OMB Control Number 2060-0001; Expiration date March 31, 2022.

Respondents: Beverage can surface coating facilities.

Respondent's obligation to respond: Mandatory (40 CFR part 60, subpart WW).

Estimated number of respondents: 48.

Frequency of response: Semiannually.

Estimated annual burden: 5,190 hours.

Estimated annual cost: $669,000, includes $101,000 annualized capital or O&M costs.

Changes in estimates: There is no change in burden from the previous ICR.

(26) Docket ID Number: EPA-HQ-OAR-2020-0660; Standards of Performance for Nonmetallic Mineral Processing Plants (40 CFR part 60, subpart OOO) (Renewal); EPA ICR Number 1084.15; OMB Control Number 2060-0050; Expiration date March 31, 2022.

Respondents: Nonmetallic mineral processing facilities.

Respondent's obligation to respond: Mandatory (40 CFR part 60, subpart OOO).

Estimated number of respondents: 5,095.

Frequency of response: Initially and occasionally.

Estimated annual burden: 20,200 hours.

Estimated annual cost: $2,450,000, includes $228,000 annualized capital or O&M costs.

Changes in estimates: There is a projected increase in burden due to an increase in the number of sources subject to the regulation.

(27) Docket ID Number: EPA-HQ-OAR-2020-0645; Standards of Performance for Municipal Solid Waste Landfills That Commenced Construction, Reconstruction, or Modification On or After May 30, 1991, But Before July 18, 2014 (40 CFR part 60, subpart WWW) (Renewal); EPA ICR Number 1557.11; OMB Control Number 2060-0220; Expiration date March 31, 2022.

Respondents: Municipal solid waste landfills.

Respondent's obligation to respond: Mandatory (40 CFR part 60, subpart WWW).

Estimated number of respondents: 661.

Frequency of response: Annually.

Estimated annual burden: 760 hours.

Estimated annual cost: $86,600, includes no annualized capital or O&M costs.

Changes in estimates: There is a projected decrease in burden due to anticipated existing sources modifying and becoming subject to 40 CFR 60, subpart XXX.

(28) Docket ID Number: EPA-HQ-OAR-2020-0668; Emission Guidelines for Compliance Times for Commercial and Industrial Solid Waste Incineration Units (40 CFR part 60, subpart DDDD) (Renewal); EPA ICR Number 2385.08; OMB Control Number 2060-0664; Expiration date March 31, 2022.

Respondents: Commercial and industrial solid waste incineration facilities.

Respondent's obligation to respond: Mandatory (40 CFR part 60, subpart DDDD).

Estimated number of respondents: 78.

Frequency of response: Semiannually and annually.

Estimated annual burden: 10,400 hours.

Estimated annual cost: $11,200,000, includes $10,000,000 annualized capital or O&M costs.

Changes in estimates: There is no change in burden from the previous ICR.

(29) Docket ID Number: EPA-HQ-OAR-2020-0665; Standards of Performance for Other Solid Waste Incineration Units for Which Construction is Commenced After December 9, 2004, or for Which Modification or Reconstruction is Commenced On or After June 16, 2006 (40 CFR part 60, subpart EEEE) (Renewal); EPA ICR Number 2163.08; OMB Control Number 2060-0563; Expiration date March 31, 2022.

Respondents: Very small municipal waste combustion and institutional waste incineration facilities.

Respondent's obligation to respond: Mandatory (40 CFR part 60, subpart EEEE).

Estimated number of respondents: 55.

Frequency of response: Initially, semiannually, and annually.

Estimated annual burden: 80,800 hours.

Estimated annual cost: $11,900,000, includes $2,720,000 annualized capital or O&M costs.

Changes in estimates: There is a projected decrease in burden due to a decrease in the number of sources subject to the regulation.

(30) Docket ID Number: EPA-HQ-OAR-2020-0669; Emissions Guidelines and Compliance Times for Sewage Sludge Incineration Units (40 CFR part 60, subpart MMMM) (Renewal); EPA ICR Number 2403.06; OMB Control Number 2060-0661; Expiration date March 31, 2022.

Respondents: Sewage sludge incinerators.

Respondent's obligation to respond: Mandatory (40 CFR part 60, subpart MMMM).

Estimated number of respondents: 86.

Frequency of response: Semiannually and annually.

Estimated annual burden: 32,800 hours.

Estimated annual cost: $4,790,000, includes $1,350,000 annualized capital or O&M costs.

Changes in estimates: There is no change in burden from the previous ICR.

(31) Docket ID Number: EPA-HQ-OAR-2020-0653; Standards of Performance for Industrial Surface Coating: Large Appliances (40 CFR part 60, subpart SS) (Renewal); EPA ICR Number 0659.15; OMB Control Number 2060-0108; Expiration date April 30, 2022.

Respondents: Facilities conducting surface coating of large appliance products.

Respondent's obligation to respond: Mandatory (40 CFR part 60, subpart SS).

Estimated number of respondents: 72.

Frequency of response: Quarterly and semiannually.

Estimated annual burden: 7,220 hours.

Estimated annual cost: $830,000, includes $8,400 annualized capital or O&M costs.

Changes in estimates: There is no change in burden from the previous ICR.

(32) Docket ID Number: EPA-HQ-OAR-2020-0656; Standards of Performance for Petroleum Dry Cleaners (40 CFR part 60, subpart JJJ) (Renewal); EPA ICR Number 0997.13; OMB Control Number 2060-0079; Expiration date April 30, 2022.

Respondents: Petroleum dry cleaning facilities.

Respondent's obligation to respond: Mandatory (40 CFR part 60, subpart JJJ).

Estimated number of respondents: 1,120.

Frequency of response: Initially.

Estimated annual burden: 1,850 hours.

Estimated annual cost: $202,000, includes no annualized capital or O&M costs.

Changes in estimates: There is no change in burden from the previous ICR.

(33) Docket ID Number: EPA-HQ-OAR-2020-0670; Standards of Performance for Crude Oil and Natural Gas Facilities for Which Construction, Modification, or Reconstruction Commenced After August 23, 2011, and On or Before September 18, 2015 (40 CFR part 60, subpart OOOO) (Renewal); EPA ICR Number 2437.05; OMB Control Number 2060-0673; Expiration date April 30, 2022.

Respondents: Oil and natural gas production, natural gas processing, natural gas transmission, and natural gas distribution facilities.

Respondent's obligation to respond: Mandatory (40 CFR part 60, subpart OOOO).

Estimated number of respondents: 532.

Frequency of response: Semiannually and annually.

Estimated annual burden: 69,300 hours.

Estimated annual cost: $9,110,000, includes $1,220,000 annualized capital or O&M costs.

Changes in estimates: There is a projected decrease in burden due to anticipated shutdown or modification of existing sources, which would become subject to 40 CFR 60, subpart OOOO.

(34) Docket ID Number: EPA-HQ-OAR-2020-0667; Standards of Performance for Petroleum Refineries for Which Construction, Reconstruction, or Modification Commenced after May 14, 2007 (40 CFR part 60, subpart Ja) (Renewal); EPA ICR Number 2263.07; OMB Control Number 2060-0602; Expiration date May 31, 2022.

Respondents: Petroleum refineries.

Respondent's obligation to respond: Mandatory (40 CFR part 60, subpart Ja).

Estimated number of respondents: 150.

Frequency of response: Initially and semiannually.

Estimated annual burden: 355,000 hours.

Estimated annual cost: $143,000,000, includes $102,000,000 annualized capital or O&M costs.

Changes in estimates: There is no change in burden from the previous ICR.

(35) Docket ID Number: EPA-HQ-OAR-2020-0662; Standards of Performance for Secondary Lead Smelters (40 CFR part 60, subpart L) (Renewal); EPA ICR Number 1128.13; OMB Control Number 2060-0080; Expiration date May 31, 2022.

Respondents: Secondary lead smelting facilities.

Respondent's obligation to respond: Mandatory (40 CFR part 60, subpart L).

Estimated number of respondents: 12.

Frequency of response: Initially.

Estimated annual burden: 32 hours.

Estimated annual cost: $3,620, includes no annualized capital or O&M costs.

Changes in estimates: There is no change in burden from the previous ICR.

(36) Docket ID Number: EPA-HQ-OAR-2020-0658; New Source Performance Standards for the Phosphate Fertilizer Industry (40 CFR part 60, subparts T, U, V, W, and X) (Renewal); EPA ICR Number 1061.15; OMB Control Number 2060-0037; Expiration date May 31, 2022.

Respondents: Phosphate fertilizer manufacturing facilities.

Respondent's obligation to respond: Mandatory (40 CFR part 60, subparts T, U, V, W, and X).

Estimated number of respondents: 13.

Frequency of response: Semiannually.

Estimated annual burden: 1,390 hours.

Estimated annual cost: $478,000, includes $320,000 annualized capital or O&M costs.

Changes in estimates: There is no change in burden from the previous ICR.

(37) Docket ID Number: EPA-HQ-OAR-2020-0659; Standards of Performance for Coal Preparation and Processing Plants (40 CFR part 60, subpart Y) (Renewal); EPA ICR Number 1062.16; OMB Control Number 2060-0122; Expiration date May 31, 2022.

Respondents: Coal preparation and processing facilities.

Respondent's obligation to respond: Mandatory (40 CFR part 60, subpart Y).

Estimated number of respondents: 757.

Frequency of response: Semiannually.

Estimated annual burden: 35,300 hours.

Estimated annual cost: $4,090,000, includes $65,600 annualized capital or O&M costs.

Changes in estimates: There is a projected decrease in burden due to anticipated shutdown of existing sources.

(38) Docket ID Number: EPA-HQ-OAR-2020-0663; Standards of Performance for Synthetic Fiber Production Facilities (40 CFR part 60, subpart HHH) (Renewal); EPA ICR Number 1156.14; OMB Control Number 2060-0059; Expiration date May 31, 2022.

Respondents: Synthetic fiber production facilities.

Respondent's obligation to respond: Mandatory (40 CFR part 60, subpart HHH).

Estimated number of respondents: 22.

Frequency of response: Quarterly and semiannually.

Estimated annual burden: 1,880 hours.

Estimated annual cost: $380,000, includes $165,000 annualized capital or O&M costs.

Changes in estimates: There is no change in burden from the previous ICR.

(39) Docket ID Number: EPA-HQ-OAR-2020-0661; Standards of Performance for Industrial Surface Coating: Surface Coating of Plastic Parts for Business Machines (40 CFR part 60, subpart TTT) (Renewal); EPA ICR Number 1093.13; OMB Control Number 2060-0162; Expiration date May 31, 2022.

Respondents: Facilities conducting surface coating of plastic parts for business machines.

Respondent's obligation to respond: Mandatory (40 CFR part 60, subpart TTT).

Estimated number of respondents: 10.

Frequency of response: Quarterly and semiannually.

Estimated annual burden: 992 hours.

Estimated annual cost: $113,000, includes no annualized capital or O&M costs.

Changes in estimates: There is no change in burden from the previous ICR.

(40) Docket ID Number: EPA-HQ-OAR-2020-0664; Emission Guidelines and Compliance Times for Small Municipal Waste Combustion Units Constructed on or before August 30, 1999 (40 CFR part 60, subpart BBBB) (Renewal); EPA ICR Number 1901.08; OMB Control Number 2060-0424; Expiration date May 31, 2022.

Respondents: Small municipal waste combustion facilities.

Respondent's obligation to respond: Mandatory (40 CFR part 60, subpart BBBB).

Estimated number of respondents: 23.

Frequency of response: Semiannually and annually.

Estimated annual burden: 102,000 hours.

Estimated annual cost: $11,500,000, includes $1,040,000 annualized capital or O&M costs.

Changes in estimates: There is no change in burden from the previous ICR.

(41) Docket ID Number: EPA-HQ-OAR-2020-0666; Standards of Performance for Stationary Compression Ignition Internal Combustion Engines (40 CFR part 60, subpart IIII) (Renewal); EPA ICR Number 2196.07; OMB Control Number 2060-0590; Expiration date May 31, 2022.

Respondents: Stationary compression ignition internal combustion engine facilities.

Respondent's obligation to respond: Mandatory (40 CFR part 60, subpart IIII).

Estimated number of respondents: 206,885.

Frequency of response: Annually.

Estimated annual burden: 408,000 hours.

Estimated annual cost: $46,700,000, includes $167,000 annualized capital or O&M costs.

Changes in estimates: There is a projected increase in burden due to an increase in the number of sources subject to the regulation.

(42) Docket ID Number: EPA-HQ-OAR-2020-0671; Standards of Performance for New Residential Hydronic Heaters and Forced-Air Furnaces (40 CFR part 60, subpart QQQQ) (Renewal); EPA ICR Number 2442.04; OMB Control Number 2060-0693; Expiration date May 31, 2022.

Respondents: Residential hydronic heater and forced-air furnace manufacturers, EPA-approved testing laboratories, and third-party certifiers.

Respondent's obligation to respond: Mandatory (40 CFR part 60, subpart QQQQ).

Estimated number of respondents: 50.

Frequency of response: Annually.

Estimated annual burden: 4,270 hours.

Estimated annual cost: $4,770,000, includes $4,280,000 annualized capital or O&M costs.

Changes in estimates: There is no change in burden from the previous ICR.

(43) Docket ID Number: EPA-HQ-OAR-2020-0647; Standards of Performance for Storage Vessels for Petroleum Liquids for which Construction, Reconstruction, or Modification Commenced After June 11, 1973, and Prior to May 19, 1978 (40 CFR part 60, subpart K) (Renewal); EPA ICR Number 1797.09; OMB Control Number 2060-0442; Expiration date June 30, 2022.

Respondents: Facilities that store petroleum liquids in storage vessels with a storage capacity greater than 151,416 liters (40,000 gallons) but not exceeding 246,052 liters (65,000 gallons).

Respondent's obligation to respond: Mandatory (40 CFR part 60, subpart K).

Estimated number of respondents: 69.

Frequency of response: Annually.

Estimated annual burden: 321 hours.

Estimated annual cost: $36,500, includes no annualized capital or O&M costs.

Changes in estimates: There is no change in burden from the previous ICR.

Dated: January 20, 2021.
Penny Lassiter,
Director, Sector Policies and Programs Division.

[FR Doc. 2021-02520 Filed 2-5-21; 8:45 am]

BILLING CODE 6560-50-P